DEPARTMENT OF HEALTH AND HUMAN SERVICES

Centers for Disease Control and Prevention

[60Day-12-12QC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Costs and Cost Savings of Motor Vehicle Injury Prevention: Evidence-Based Policy and Behavioral Interventions—NEW—National Center for Injury Prevention and Control (NCIPC), Centers for Disease Control and Prevention (CDC).

Background and Brief Description

Motor vehicle injuries are the leading cause of death for children, adolescents, and young adults, and a major cause of death for all other ages. In 2009, 33,808 people were killed in crashes in the United States and more than 2.2 million people were injured. Medical costs and productivity losses associated with traffic injuries amounted to more than $99 billion in 2005; equivalent to about $500 for each U.S. licensed driver. Due to the magnitude of this injury problem and the availability of evidence-based policies and interventions to prevent it, motor vehicle injury prevention has been designated as one of the CDC's Winnable Battles.

CDC requests OMB approval to support research needed to reduce the number of motor vehicle injuries and fatalities. This project is designed to support state and local communities in making evidence-based resource allocation decisions relating to the implementation of motor vehicle injury prevention policies and programs. This will be done by generating estimates of the cost of implementing a set of evidence-based interventions. By combining these estimates with existing data on the effect of each intervention and cost of motor vehicle injuries, an interactive, user-friendly tool will be created that states can use to assess the costs and benefits of different interventions designed to prevent motor vehicle injuries. The resulting tool should help states understand the tradeoffs and prioritize high-impact interventions to reduce motor vehicle injuries.

Key informant interviews will be used to fill gaps in knowledge for interventions that do not have extensive literature on their costs and benefits. Information will be collected from Public safety advocacy groups, DWI/DUI defense attorneys, State Departments of Public Safety (members of the Governors Highway Safety Association), State Parole Agencies, and Local Law Enforcement Agencies. Online expert panel meetings will provide the background information needed to understand how to successfully build an online tool that can be used to generate a variety of state-specific and cost-benefit analyses, including point estimates and uncertainty intervals for costs and benefits. The tool will account for different levels of implementation for each intervention and for interdependencies among pairs of specific interventions. The tool will provide state and local policymakers with an optimal portfolio or package of selected interventions that are expected to produce the highest benefit for a specified implementation budget. The integrated, data-driven tool will facilitate effective planning and policymaking at the state and local levels by providing policymakers with a rigorous analysis of the costs and benefits of various options for reducing motor vehicle injuries and fatalities.

There are no costs to respondents other than their time.

Estimated Annualized Burden Hours
Type of respondent | Form name | Number of respondents | Number of responses per respondent | Average burden per response (hours) | Total burden hours
Public Safety Advocacy Groups | Semi-Structured Interviews—(Attachment C) | 4 | 1 | 1 | 4
DWI/DUI Defense Attorneys | Semi-Structured Interviews—(Attachment D) | 4 | 1 | 1 | 4
Court Case Managers | Semi-Structured Interviews—(Attachment E) | 4 | 1 | 1 | 4
State Parole Agencies | Semi-Structured Interviews—(Attachment F) | 2 | 1 | 1 | 2
State Depts. of Public Safety | Semi-Structured Interviews—(Attachment G) | 6 | 1 | 1 | 6
Local Law Enforcement | Semi-Structured Interviews—(Attachment H) | 4 | 1 | 1 | 4
Academic Researchers | Discussion Guide—Online Expert Panel—(Attachment I) | 3 | 1 | 1 | 3
CDC Staff | Discussion Guide—Online Expert Panel—(Attachment I) | 3 | 1 | 1 | 3
NHTSA Staff | Discussion Guide—Online Expert Panel—(Attachment I) | 2 | 1 | 1 | 2
Total |  |  |  |  | 32

Kimberly S. Lane,
Deputy Director, Office of Scientific Integrity, Office of the Associate Director for Science, Office of the Director, Centers for Disease Control and Prevention.

[FR Doc. 2012-20218 Filed 8-16-12; 8:45 am]

BILLING CODE 4163-18-P